DEPARTMENT OF VETERANS AFFAIRS

Advisory Committee on Former Prisoners of War, Notice of Meeting

The Department of Veterans Affairs (VA) gives notice under Public Law 92-463 that a meeting of the Advisory Committee on Former Prisoners of War will be held on April 22-24, 2002, at the Department of Veterans Affairs Central Office, 810 Vermont Avenue NW., Room 730, Washington, DC 20420. Each day the meeting will convene at 9 a.m. and end at 4:30 p.m. The meeting is open to the pubic.

The purpose of the committee is to advise the Secretary of Veterans Affairs on the administration of benefits under Title 38, United States Code, for veterans who are former prisoners of war, and to make recommendations on the needs of such veterans for compensation, health care and rehabilitation.

The agenda for April 22 will begin with an introduction of Committee members and dignitaries, a review of Committee reports, an update of activities since the last meeting, and period for POW veterans and/or the public to address the committee. The Committee will also discuss future plans for the VA POW Learning Seminars, and conclude with a report from the Special Medical Panel on Presumptive Conditions among Former Prisoners of War. The agenda on April 23 will include a review of VA's Compensation and Pension Service activities, including new outreach initiatives to Former POWs, as well as a progress report from VA's Presumptions Process Workgroup. The Committee will also hear presentations on the activities of the Veterans Health Administration, including a report on priority for POWs in Long-Term Health Care programs. The session will then hear a presentation from the Robert E. Mitchell Center for Prisoner of War Studies. The day will conclude with a general discussion. On April 24, the Committee's Medical and Administrative subcommittees will break out to discuss their activities and report back to the Committee.

Additionally, the Committee will review and analyze the comments discussed throughout the meeting for the purpose of assisting and compiling a final report to be sent to the Secretary.

Members of the public may direct questions or submit prepared statements for review by the Committee in advance of the meeting, in writing only, to Mr. Ronald J. Henke, Director, Compensation and Pension Service (21), Department of Veterans Affairs, 810 Vermont Avenue, NW., Washington, DC 20420. A report of the meeting and roster of Committee members may be obtained from Mr. Henke.

Dated: April 4, 2002.
By direction of the Secretary.
Nora E. Egan,
Committee Management Officer.

[FR Doc. 02-8776 Filed 4-10-02; 8:45 am]

BILLING CODE 8320-01-M